DEPARTMENT OF ENERGY

Federal Energy Regulatory Commission

[Project No. 12777-001]

Maine Maritime Academy; Notice of Declaration of Intention and Petition for Relief Filing and Soliciting Comments

January 6, 2010.

Take notice that the following declaration of intention and petition for relief from the requirements of hydropower licensing has been filed with the Commission and is available for public inspection.

a. Type of Filing: Declaration of Intention and Petition for Relief.

b. Project No.: 12777-001.

c. Date Filed: October 28, 2009.

d. Applicant: Maine Maritime Academy.

e. Name of Project: Bagaduce River Tidal Energy Project.

f. Location: In the Bagaduce River and Estuary, in Hancock County, Maine. The project would not occupy federal lands.

g. Filed Pursuant to: 18 CFR Part 24, Section 24.1.

h. Applicant Contact: Richard S. Armstrong, Executive Director, Tidal Energy Demonstration and Evaluation Center, Capt. Quick Hall, Maine Maritime Academy, Castine, ME 04420 (207) 326-2186.

i. FERC Contact: Tom Dean at (202) 502-6041.

j. Deadline for filing comments: 30 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “eFiling” link.

k. Description of Project: The Maine Maritime Academy (Academy) intends to deploy and test for short periods, for study purposes, hydrokinetic devices that would be located at sites located in Bagaduce Narrows and Castine Harbor. The experimental hydrokinetic devices could include: (1) 4.9-foot-diameter, 19.7-foot-long 4 kilowatt (kW) Cross Flow Darrius style rotors; (2) 13.1-foot-diameter, 3.3-foot-high 4 kW Cross Flow Savonius type rotors; and (3) 13.1-foot-diameter, 3.3-foot-long 6 kW Axial Flow turbines with an average capacity up to 1.5 kW. The devices would be mounted to floats attached to a concrete superstructure, concrete or stone blocks, and other gravity based weighted frameworks connected to research vessels, small launches or barges. The hydrokinetic devices would convert mechanical power from the tidal currents and the rise and fall of the tides in Bagaduce Narrows and Castine Harbor into electrical power without constructing a dam, reservoir, penstock, or powerhouse.

l. Petition for Declaration of Intention: The Academy asks that it be allowed, without a license under Part I of the Federal Power Act, to deploy, test, and study the type of facilities listed above, and use the power from the test devices to heat water or charge 3 or 4 batteries which could sustain a charge and power a 12/24/32 volt array of instruments and lights aboard research vessels or small barges. The Academy would initially test the hydrokinetic devices for 12 to 14 hours during tidal cycles, and once the initial tests were completed, would continue to test the devices for durability for up to five weeks. The deployment would provide educational experience for students to develop skills in deploying, retrieving, maintaining, and repairing hydrokinetic devices.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Kimberly D. Bose,
Secretary.

[FR Doc. 2010-525 Filed 1-13-10; 8:45 am]

BILLING CODE 6717-01-P